DEPARTMENT OF THE TREASURY

Submission for OMB Review; Comment Request

January 23, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 6, 2002, to be assured of consideration.

Internal Revenue Service

OMB Number: 1545-1739.

Form Number: IRS Forms 9460 and 9477.

Type of Review: Reinstatement.

Title: Tax Forms Inventory Report.

Description: The forms are designed to collect tax forms inventory information from post offices, libraries, and other entities that distribute Federal tax forms. Data is collected detailing the quantities and types of tax forms remaining at the end of the filing season. This data is combined with shipment data for each account and used to establish forms distribution guidelines for the following year. Source code data is collected to verify that the different entities received tax forms with the correct code.

Respondents: Business or other for-profit, not-for-profit institutions, Federal Government.

Estimated Number of Respondents: 14,000.

Estimated Burden Hours Per Respondent: 14 minutes.

Frequency of Response: Annually.

Estimated Total Reporting Burden: 3,417 hours.

OMB Number: 1545-1750.

Form Number: IRS Form 8038-R.

Type of Review: Extension.

Title: Request for Recovery of Overpayments Under Arbitrage Rebate Provisions.

Description: Under Treasury Regulations section 1.148-3(i), bond issuers may recover an overpayment of arbitrage rebate paid to the United States under Internal Revenue Code section 148. Form 8038-R is used to request recovery of any overpayment of arbitrage rebate made under the arbitrage rebate provisions.

Respondents: State, Local or Tribal Government.

Estimated Number of Respondents/Recordkeepers: 200.

Estimated Burden Hours Per Respondent/Recordkeeper:

Recordkeeping | 5 hr., 44 min.
Learning about the law or the form | 3 hr., 10 min.
Preparing, copying, assembling, and sending the form to the IRS | 3 hr., 24 min.

Frequency of Response: On occasion.

Estimated Total Reporting and Recordkeeping Burden: 2,466 hours.

Clearance Officer: George Freeland, Internal Revenue Service, Room 5577, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 02-2595 Filed 2-1-02; 8:45 am]

BILLING CODE 4830-01-P